DEPARTMENT OF DEFENSE

Office of the Secretary

Revision of the DoD 6055.09-STD, “Department of Defense Ammunition and Explosives Safety Standards”

AGENCY: Department of Defense.

ACTION: Notice of change.

SUMMARY: The Chairman, Department of Defense Explosives Safety Board (DDESB), is today announcing several changes to DoD 6055.9-STD, dated 5 October 2004. The DDESB is republishing the Standard (now DoD 6055.09-STD) with changes deliberated by the Voting Board members from October 5, 2004 to July 18, 2005.

The DDESB is taking this action pursuant to its statutory authority as set forth in Title 10, United States Code, Section 172 (10 U.S.C. 172) and DoD Directive 6055.9E, “Explosives Safety Management and the Explosives Safety Board (DDESB),” August 19, 2005. The Standard is applicable to the Office of the Secretary of Defense, the Military Departments, the Office of the Chairman of the Joint Chiefs of Staff, the Combatant Commands, the Office of the Inspector General of the Department of Defense, the Defense Agencies, the DoD Field Activities, and all other organizational entities in the Department of Defense (hereafter referred to collectively as the “DoD Components”).

Through DoD 6055.09-STD, the DDESB establishes minimum explosives safety requirements for storing and handling ammunition and explosives. Copies of the revised Standard dated February 29, 2008, may be downloaded from the DoD Directives Program Web site at http://www.dtic.mil/whs/directives.

FOR FURTHER INFORMATION CONTACT: For more detailed information on specific aspects of this Standard, contact Dr. Jerry M. Ward, phone: (703) 325-2525; e-mail: Jerry.Ward@ddesb.osd.mil; DDESB, 2461 Eisenhower Avenue, Room 856C, Alexandria, VA 22331-0600.

SUPPLEMENTARY INFORMATION: Dating back to 1928 when Congress directed the Secretaries of the military departments to establish a joint board of officers to “keep informed on stored supplies of ammunition and components thereof * * *, with particular regard to keeping those supplies properly dispersed and stored and to preventing hazardous conditions from arising to endanger life and property inside or outside of storage reservations,” the DDESB (formerly known as the Ammunition Safety Board) has periodically revised or updated the Standard based on new scientific or technical information and explosives safety experience. The implementation of a change to DoD 6055.09-STD depends on formal publication of a change to DoD 6055.09-STD. In order to ensure compliance, the DoD Components modify their implementing procedures and standards accordingly.

This revision to the 5 October 2004 version of DoD 6055.09-STD incorporates, as appropriate, recommendations made by Voting Board members at the 327th DDESB meeting held on December 14, 2004, and the 328th DDESB meeting held on July 18, 2005, and included in their replies to DDESB vote by correspondence memoranda dated March 11, 2005 and June 30, 2005.

The changes included herein address the following:

• Replaces Chapter 12 “Real Property Contaminated with Ammunition, Explosives or Chemical Agents” with completely revised Chapter 12 “Real Property Known or Suspected to Contain Munitions and Explosives of Concern and Chemical Agents” that includes explosives safety standards for the identification and control of areas known or suspected to contain Munitions and Explosives of Concern (MEC) or Chemical Agents (CA), addresses explosives and CA safety aspects of response actions as well as special considerations, provides criteria for required safety submissions as well as for amendments and corrections to these submissions, provides criteria for after action reports, provides criteria for transfer of real property outside of DoD control

• Relocates criteria for the termination of use of facilities storing ammunition and explosives from the previous Chapter 12 to Chapter 1

• Includes a new Chapter 15 “Unexploded Ordnance (UXO)” that provides criteria for the disposition of UXO, addresses special considerations, provides criteria for access to areas known or suspected to contain UXO and for identification and control of such areas, provides minimum separation distances for UXO, addresses other considerations

• Includes a new Chapter 16 “Material Potentially Presenting an Explosives Hazard (MPPEH)” that provides explosives safety standards for MPPEH

• Expands Glossary to include new terms used in the revised Chapter 12, and new Chapters 15 and 16

• Removes the exception for quantity-distance (QD) application to roll-on and roll-off ammunition and explosives operations

• Establishes criteria for the siting of and authorized operations at reduced QD magazines

• Expands the criteria for application of no QD to ammunition and explosives stored in ships' magazines and intended for the service of shipboard armament or aircraft

In adopting these changes, the Chairman, DDESB has determined that the Standards, as changed, are at least as protective as the previous Standards.

Dated: September 29, 2008.
Patricia L. Toppings,
OSD Federal Register Liaison Officer, Department of Defense.

[FR Doc. E8-23522 Filed 10-3-08; 8:45 am]

BILLING CODE 5001-06-P